OFFICE OF PERSONNEL MANAGEMENT

Privacy Act of 1974; System of Records

AGENCY: Office of Personnel Management.

ACTION: Notice of a modified system of records.

SUMMARY: In accordance with the Privacy Act of 1974, the Office of Personnel Management (“OPM”), proposes to modify an OPM government-wide system of records, OPM/GOVT-5, Recruiting, Examining, and Placement Records, primarily to make clear that records collected and generated in the process of onboarding Federal employees but prior to their entry-on-duty date are included in this system of records. In addition, OPM proposes additional administrative changes to reflect the current OPM organization.

DATES: Please submit comments on or before January 3, 2022. This modified system of records is effective upon publication.

ADDRESSES: You may submit written comments through the Federal Rulemaking Portal: http://www.regulations.gov. All submissions received must include the agency name and docket number for this Federal Register document. The general policy for comments and other submissions from members of the public is to make these submissions available for public viewing on the internet at http://www.regulations.gov as they are received without change, including any personal identifiers or contact information.

FOR FURTHER INFORMATION CONTACT: For general questions, please contact: Dianna Saxman, Associate Director, Human Resources Solutions, Office of Personnel Management at Dianna.Saxman@opm.gov. For privacy questions, please contact: Kellie Cosgrove Riley, Chief Privacy Officer, Office of Personnel Management at 202-360-6065 or privacy@opm.gov.

SUPPLEMENTARY INFORMATION: In accordance with the Privacy Act of 1974, 5 U.S.C. 552a, the Office of Personnel Management (“OPM”), proposes to make certain modifications to the OPM/GOVT-5 Recruiting, Examining, and Placement Records system of records pending a comprehensive review and update at a later date. The records in this system of records include all records submitted by an applicant for Federal employment or generated in connection with the application and the onboarding process.

OPM proposes to modify this system of records to add an additional category of records: “m. Records collected or generated in the process of onboarding an applicant selected to fill a vacant position, to include, for example, vaccination records, proof of citizenship, and agency-specific documentation necessary for the onboarding process.” This category of records is being added to clarify that records collected or generated in the onboarding process, after applicants have been selected but before they are Federal employees, are included in this system of records. Once an individual completes the onboarding process and is a Federal employee, certain records collected and generated in the onboarding process may be included in other systems of records. For example, proof of vaccination required by Executive Order 14043, Requiring Coronavirus Disease 2019 Vaccination for Federal Employees, may later be included in the OPM/GOVT-10 Employee Medical File Systems Records system of records; and personnel forms completed in the onboarding process may later be included in the OPM/GOVT-1 General Personnel Records system of records.

In addition to modifying this system of records to add an additional category of records, OPM also proposes to modify the description of the system location and identification of the system manager. Both modifications are being made to reflect organizational changes at OPM since the last publication of the OPM/GOVT-5 system of records notice.

OPM has provided a report of this modified system of records to the Committee on Oversight and Government Reform of the House of Representatives, the Committee on Homeland Security and Governmental Affairs of the Senate, and the Office of Management and Budget (OMB), pursuant to 5 U.S.C. 552a(r) and OMB Circular A-108, “Federal Agency Responsibilities for Review, Reporting, and Publication under the Privacy Act,” dated December 23, 2016. This modified system of records will be included in OPM's inventory of record systems.

Alexys Stanley,
Regulatory Affairs Analyst.

SYSTEM NAME AND NUMBER:

Recruiting, Examining, and Placement Records, OPM/GOVT-5.

SECURITY CLASSIFICATION:

Unclassified.

SYSTEM LOCATION:

Human Resources Solutions, Office of Personnel Management, 1900 E Street NW, Washington, DC 20415, has government-wide responsibility for the records in this system of records. Individual agencies have responsibility for the records pertaining to their applicants.

SYSTEM MANAGER(S):

Associate Director, Human Resources Solutions, U.S. Office of Personnel Management, 1900 E Street NW, Room 6H31, Washington, DC 20415.

CATEGORIES OF RECORDS IN THE SYSTEM:

* * * * *

m. Records collected or generated in the process of onboarding an applicant selected to fill a vacant position, to include, for example, vaccination records, proof of citizenship, and agency-specific documentation necessary for the onboarding process.

* * * * *

HISTORY:

61 FR 36919 (July 15, 1996); 65 FR 24731 (April 27, 2000); 71 FR 35341 (June 19, 2006); 79 FR 16834 (March 26, 2014); 80 FR 74815 (November 30, 2015).

[FR Doc. 2021-26086 Filed 11-30-21; 8:45 am]

BILLING CODE 6325-43-P